DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Population Sciences and Epidemiology Integrated Review Group, Population based Research in Infectious Disease Study Section.

Date: July 30-31, 2025.

Time: 10:00 a.m. to 6:00 p.m.

Agenda: To review and evaluate grant applications.

Address: National Institutes of Health, Rockledge II, 6701 Rockledge Drive, Bethesda, MD 20892.

Meeting Format: Virtual Meeting.

Contact Person: James T. Snyder, Ph.D., Scientific Review Officer, Scientific Review Program, Division of Extramural Activities/Room 3G31B, National Institutes of Health, NIAID, 5601 Fishers Lane MSC 9834, Bethesda, MD 20892-9834, (240) 669-5060, james.snyder@nih.gov.

Name of Committee: Center for Scientific Review Special Emphasis Panel; Program Projects: Limited Competition: National Primate Research Centers (P51).

Date: July 30-August 1, 2025.

Time: 12:00 p.m. to 6:00 p.m.

Agenda: To review and evaluate grant applications

Address: National Institutes of Health, Rockledge II, 6701 Rockledge Drive, Bethesda, MD 20892.

Meeting Format: Virtual Meeting.

Contact Person: Elaine Sierra-Rivera, Ph.D., IRG Chief, Center for Scientific Review, National Institutes of Health, 6701 Rockledge Drive, Room 6182, Bethesda, MD 20892, (301) 435-2514, riverase@csr.nih.gov.

Name of Committee: Center for Scientific Review Special Emphasis Panel; Language, Cognition, Learning and Rehabilitation.

Date: July 31, 2025.

Time: 9:00 a.m. to 6:00 p.m.

Agenda: To review and evaluate grant applications.

Address: National Institutes of Health, Rockledge II, 6701 Rockledge Drive, Bethesda, MD 20892.

Meeting Format: Virtual Meeting.

Contact Person: DeAnna L. Adkins, Ph.D., Scientific Review Officer, Scientific Review Branch, NSC Building, Bethesda, MD 20892, 301-496-9223, deanna.adkins@nih.gov.

Name of Committee: Center for Scientific Review Special Emphasis Panel; Member Conflict: Macromolecular Biophysics & Biological Chemistry SEP.

Date: July 31, 2025.

Time: 9:30 a.m. to 6:30 p.m.

Agenda: To review and evaluate grant applications.

Address: National Institutes of Health, Rockledge II, 6701 Rockledge Drive, Bethesda, MD 20892.

Meeting Format: Virtual Meeting.

Contact Person: Shan Wang, Ph.D., Scientific Review Officer, Center for Scientific Review, National Institute of Health, 6701 Rockledge Drive, Bethesda, MD 20892, (301) 496-4390, shan.wang@nih.gov.

Name of Committee: Center for Scientific Review Special Emphasis Panel; Program Projects: Centers of Biomedical Research Excellence (COBRE) Phase 1.

Date: July 31-August 1, 2025.

Time: 10:00 a.m. to 6:00 p.m.

Agenda: To review and evaluate grant applications.

Address: National Institutes of Health, Rockledge II, 6701 Rockledge Drive, Bethesda, MD 20892.

Meeting Format: Virtual Meeting.

Contact Person: Kaitlyn N. Hardell, MPH, Ph.D., Scientific Review Officer, SRB, NIA, Scientific Review Branch, 5601 Fishers Lane, Suite 8B, Rockville, MD 20892, (301) 594-7945, kaitlyn.hardell@nih.gov.

Name of Committee: Center for Scientific Review Special Emphasis Panel; HIV and AIDS Research.

Date: July 31-August 1, 2025

Time: 10:00 a.m. to 6:00 p.m.

Agenda: To review and evaluate grant applications.

Address: National Institutes of Health, Rockledge II, 6701 Rockledge Drive, Bethesda, MD 20892.

Meeting Format: Virtual Meeting.

Contact Person: Louis A. Rosenthal, Ph.D., AB Scientific Review Officer, Scientific Review Program, Division of Extramural Activities, Rm 3G42B, National Institutes of Health/NIAID, 5601 Fishers Lane, MSC 9834, Bethesda, MD 20892-9834, (240) 669-5070 rosenthalla@niaid.nih.gov.

Name of Committee: Center for Scientific Review Special Emphasis Panel; Topics in basic neurovascular biology, neurodegeneration, and neurological disorders.

Date: August 1, 2025.

Time: 10:00 a.m. to 5:30 p.m.

Agenda: To review and evaluate grant applications.

Address: National Institutes of Health, Rockledge II, 6701 Rockledge Drive, Bethesda, MD 20892.

Meeting Format: Virtual Meeting.

Contact Person: Gagan Deep Bajaj, Scientific Review Officer, National Institute on Drug Abuse, NIH, Scientific Review Branch, 11601 Landsdown Street, 3WF Room 09A01, Bethesda, MD 20892, (301) 402-6965, gagan.bajaj@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 26, 2025.
Bruce A. George,
Program Analyst, Office of Federal Advisory Committee Policy.

[FR Doc. 2025-12277 Filed 6-30-25; 8:45 am]

BILLING CODE 4140-01-P